DEPARTMENT OF HOUSING AND URBAN DEVELOPMENT

[Docket No. FR-5300-FA-25]

Announcement of Funding Awards for the Resident Opportunity and Self-Sufficiency (ROSS)—Service Coordinators Program for Fiscal Year 2009

AGENCY: Office of Public and Indian Housing, HUD.

ACTION: Announcement of funding awards.

SUMMARY: In accordance with Section 102(a)(4)(C) of the Department of Housing and Urban Development Reform Act of 1989, this announcement notifies the public of funding decisions made by the Department for funding under the FY 2009 Notice of Funding Availability (NOFA) for the Resident Opportunity and Self-Sufficiency (ROSS) Service Coordinators Program funding for Fiscal Year 2009. This announcement contains the consolidated names and addresses of those award recipients selected for funding based on the selection process established in the NOFA.

FOR FURTHER INFORMATION CONTACT: For questions concerning the FY 2009 Resident Opportunity and Self-Sufficiency (ROSS) Service Coordinators Program awards, contact the Office of Public and Indian Housing's Grant Management Center, Acting Director, Cedric A. Brown, Department of Housing and Urban Development, Washington, DC, telephone (202) 475-8589. For the hearing or speech impaired, these numbers may be accessed via TTY (text telephone) by calling the Federal Information Relay Service at 1 (800) 877-8339. (Other than the “800” TTY number, these telephone numbers are not toll-free.)

SUPPLEMENTARY INFORMATION: The authority for the $28,000,000 in one-year budget authority for the Resident Opportunity and Self-Sufficiency (ROSS) Service Coordinators Program is found in the Department of Housing and Urban Development Appropriations Act, 2009 (Pub. L. 111-8, approved March 11, 2009) plus any carryover or recaptured funds from prior ROSS appropriations that may have become available.

The purpose of the ROSS Service Coordinators program is to provide grants to public housing agencies (PHAs), tribes/tribally designated housing entities (TDHEs), Resident Associations (RAs), and non-profit organizations (including grassroots, faith-based and other community-based organizations) for the provision of a Service Coordinator to coordinate supportive services and other activities designed to help Public and Indian housing residents attain economic and housing self-sufficiency. This program works to promote the development of local strategies to coordinate the use of assistance under the Public Housing program with public and private resources, for supportive services and resident empowerment activities. A Service Coordinator ensures that program participants are linked to the supportive services they need to achieve self-sufficiency or remain independent.

The Fiscal Year 2009 awards announced in this Notice were selected for funding in a competition announced in the Federal Register NOFA published on July 29, 2009. In accordance with Section 102(a)(4)(C) of the Department of Housing and Urban Development Reform Act of 1989 (103 Stat. 1987, 42 U.S.C. 3545), the Department is publishing the names, addresses, and amounts of the 91 awards made under the Resident Opportunity and Self-Sufficiency Service Coordinators competition.

Dated: May 21, 2010.
Sandra B. Henriquez,
Assistant Secretary for Public and Indian Housing.

Recipient | Address, City, State, Zip code | Amount
Alexander City Housing Authority | 2110 County Road, Alexander City, AL 35010 | $240,000
Jefferson County Housing Authority | 3700 Industrial Parkway, Birmingham, AL 35217 | 199,500
Mobile Housing Board | 151 South Claiborne Street, Mobile, AL 36602 | 686,520
Jonesboro Urban Renewal & Housing Authority | 330 Union, Jonesboro, AR 72401 | 152,630
Little Rock Housing Authority | 100 South Arch Street, Little Rock, AR 72201 | 141,000
Flagstaff Housing Authority | 3481 North Fanning Drive, Flagstaff, AZ 86003 | 168,762
San Carlos Housing Authority | P.O. Box 740, Highway 70, Moonbase Road, Peridot, AZ 85542 | 240,000
Housing Authority of the City of Oakland | 1619 Harrison Street, Oakland, CA 94612 | 240,000
Housing Authority of the City of Oxnard | 435 South D Street, Oxnard, CA 93030 | 240,000
Housing Authority of the County of Marin | 4020 Civic Center Drive, San Rafael, CA 94903 | 240,000
Northern California Presbyterian Homes & Services, Inc | 1525 Post Street, San Francisco, CA 94109 | 720,000
Columbine Homes Local Resident Council | 201 South Yuma Street, Denver, CO 80223 | 202,317
Housing Authority of the City of Pueblo | 1414 North Santa Fe Avenue, 10th Floor, Pueblo, CO 81003 | 240,000
Mulroy Apartments Local Resident Council | 3550 West 13th Street, Denver, CO 80204 | 202,317
Housing Authority of the City of New Haven | 360 Orange Street, New Haven, CT 6511 | 720,000
Housing Authority of the City of Norwalk | P.O. Box 508, 24 1/2 Monroe Street, Norwalk, CT 6856 | 240,000
Boca Raton Housing Authority | 201 West Palmetto Park Road, Boca Raton, FL 33432 | 182,818
Hialeah Housing Authority | 75 East 6th Street, Hialeah, FL 33010 | 480,000
Housing Authority of the City of Orlando, Florida | 390 North Bumby Avenue, Orlando, FL 32803 | 409,526
Tallahassee Housing Authority | 2940 Grady Road, Tallahassee, FL 32312 | 240,000
The Housing Authority of the City of Tampa | 1514 Union Street, Tampa, FL 33607 | 682,560
Gainesville Housing Authority | 1750 Pearl Nix Parkway, Gainesville, GA 30503 | 202,908
Housing Authority of Columbus, Georgia | 1000 Wynnton Road, Columbus, GA 31902 | 345,000
Housing Authority of DeKalb County | 750 Commerce Drive, Suite 201, Decatur, GA 30030 | 156,000
Housing Authority of the City of West Point Georgia | P.O. Box 545, 1201 East 12th Street, West Point, GA 31833 | 174,000
Kokua Kalihi Valley Comprehensive Family Services | 2239 North School Street, Honolulu, HI 96819 | 365,623
Holsten Human Capital Development, NFP | 1333 North Kingsbury, Suite 305, Chicago, IL 60642 | 720,000
The Housing Authority of the City of Bloomington | 104 East Wood, Bloomington, IL 61701 | 240,000
Lawrence-Douglas County Housing Authority | 1600 Haskell Avenue, Lawrence, KS 66044 | 240,000
Housing Authority of Somerset | P.O. Box 449, Somerset, KY 42502 | 197,095
Boston Housing Authority | 52 Chauncy Street, Boston, MA 02111 | 480,000
Holyoke Housing Authority | 475 Maple Street, Suite One Holyoke, MA 01040 | 240,000
Medford Housing Authority | 121 Riverside Drive, Medford, MA 02155 | 240,000
Springfield Housing Authority | 25 Saab Court, Springfield, MA 01104 | 390,000
Worcester Housing Authority | 40 Belmont Street, Worcester, MA 01605 | 240,000
Allendale Tenant Council | 3600 West Franklin Street, 1st. Floor, Baltimore MD 21229 | 240,000
Brooklyn Homes Tenant Council | 4140 Tenth Street, Baltimore, MD 21225 | 240,000
Housing Authority of Baltimore City | 417 East Fayette Street, Room 923, Baltimore, MD 21202 | 720,000
Housing Authority of the City of Frederick | 209 Madison Street, Frederick, MD 21701 | 210,000
Housing Opportunities Commission of Montgomery County, MD | 10400 Detrick Avenue, Kensington, MD 20895 | 230,000
J Van Story Branch Tenant Council | 11 West 20th Street, Baltimore, MD 21218 | 240,000
Lakeview Towers Tenant Council | 727 Druid Park Lake Drive, Baltimore, MD 21217 | 240,000
O'Donnell Heights Tenant Council | 1200 Gusryan Street, Baltimore, MD 21224 | 240,000
Rockville Housing Enterprises | Southlawn Lane, Rockville, MD 20850 | 240,000
Detroit Housing Commission | 1301 East Jefferson, Detroit, MI 48207 | 643,925
Sault Tribe of Chippewa Indians Housing Authority | 154 Parkside, Kincheloe, MI 49788 | 158,052
Hopkins Housing and Redevelopment Authority | 1010 1st Street South, Hopkins, MN 55343 | 228,725
St. Louis Park Housing Authority | 5005 Minnetonka Boulevard, St. Louis Park, MN 55416 | 237,000
Housing Authority of the City of Charlotte | 1301 South Boulevard, Charlotte, NC 28203 | 662,417
Housing Authority of the City of Wilmington, NC | 1524 South 16th Street, Wilmington, NC 28401 | 240,000
The Housing Authority of the City of Durham | P.O. Box 1726, 330 East Main Street, Durham NC 27701 | 480,000
Housing Authority of Gloucester County | 100 Pop Moylan Boulevard, Deptford, NJ 08096 | 112,871
Millville Housing Authority | P.O. Box 803, 1153 Holly Barry Lane, Millville, NJ 08360 | 195,000
New Jersey Association of Public and Subsidized Housing | 303 Washington Street, 4th Floor, Newark, NJ 07102 | 240,000
Pleasantville Housing Authority | 156 North Main Street, Pleasantville, NJ 08232 | 240,000
The Newark Housing Authority | 500 Broad Street, 2nd Floor, Newark, NJ 07102 | 720,000
Woodbridge Garden Apartment Resident Council | 20 Bunns Lane, Woodbridge, NJ 07095 | 206,000
Citywide Council of Syracuse Low Income Housing Residents | 516 Burt Street, Syracuse, NY 13202 | 480,000
New Rochelle Municipal Housing Authority | 50 Sickles Avenue, New Rochelle, NY 10801 | 240,000
New York Housing Authority | 250 Broadway, New York, NY 10007 | 720,000
Dayton Metropolitan Housing Authority | P.O. Box 8750, 400 Wayne Avenue, Dayton, OH 45401 | 692,180
Fairfield Metropolitan Housing Authority | 315 North Columbus Street, Lancaster, OH 43130 | 140,700
Tonkawa Tribe of Indians of Oklahoma | 1 Rush Buffalo Road, Tonkawa, OK 74653 | 172,369
Community Action Southwest | 150 West Beau Street, Suite 304, Washington, PA 15301 | 142,750
Housing Association of Delaware Valley | 1528 Walnut Street, Suite 1000, Philadelphia, PA 19102 | 240,000
Mercer County Housing Authority | 80 Jefferson Avenue, Sharon, PA 16146 | 186,000
Ramsey Educational Development Institute | 1060 First Avenue, Suite 430, King of Prussia, PA 19406 | 240,000
Johnston Housing Authority | 8 Forand Circle, Johnston, RI 2919 | 174,000
Franklin Housing Authority | 100 Spring Street, Franklin, TN 37064 | 200,592
Kingsport Housing & Redevelopment Authority | P.O. Box 44, Kingsport, TN 37662 | 240,000
Metropolitan Development and Housing Agency | 701 South Sixth Street, Nashville, TN 37206 | 720,000
Shelbyville Housing Authority | P.O. Box 560, 316 Templeton Street, Shelbyville, TN 37162 | 186,613
Tennessee's Community Assistance Corporation | P.O. Box 485, Morristown, TN 37815 | 173,932
Cameron County Housing Authority | 65 Castellano Circle, Brownsville, TX 78521 | 196,742
Georgetown Housing Authority | P.O. Box 60, Georgetown TX 78664 | 156,000
HACA City-Wide Advisory Board | 1124 South IH-35, Austin, TX 78704 | 698,148
San Marcos Housing Authority | 1201 Thorpe Lane, San Marcos, TX 78666 | 204,566
The Housing Authority of the City of Dallas, Texas (DHA) | 3939 North Hampton Road, Dallas, TX 75212 | 471,094
Housing Authority of the County of Salt Lake | 3595 South Main Street, Salt Lake City, UT 84115 | 222,000
Bristol Redevelopment and Housing Authority | 809 Edmond Street, Bristol, VA 24201 | 198,864
Fairfax County Redevelopment and Housing Authority | 3700 Pender Drive, Suite 300, Fairfax VA 22030 | 480,000
Roanoke Redevelopment & Housing Authority | 2624 Salem Turnpike Northwest, Roanoke, VA 24017 | 398,034
Waynesboro Redevelopment and Housing Authority | P.O. Box 1138, 1700 New Hope Road, Waynesboro, VA 22980 | 169,186
Rutland Housing Authority | 5 Tremont Street, Rutland, VT 05701 | 231,395
Housing Authority of the City of Vancouver (WA) | 2500 Main Street, Suite 100, Vancouver, WA 98660 | 216,434
Puyallup Tribal Housing Authority | 2806 East Portland Avenue, Tacoma, WA 98404 | 240,000
College Court Resident Organization | c/o Kenneth Barbeau, Contract Administrator, HACM, 650 West Reservoir Avenue, Milwaukee, WI 53212 | 229,548
Locust Court Resident Organization | 650 West Reservoir Avenue, Milwaukee, WI 53212 | 229,536
Merrill Park Resident Organization | 650 West Reservoir Avenue, Milwaukee, WI 53212 | 185,597
Oneida Tribe of Indians of Wisconsin | P.O. Box 365, Oneida, WI 54155 | 210,403
Wheeling Housing Authority | P.O. Box 2089, Wheeling, WV 26003 | 198,500

[FR Doc. 2010-13471 Filed 6-3-10; 8:45 am]

BILLING CODE 4210-67-P